POSTAL SERVICE

39 CFR Parts 111 and 211

New Mailing Standards for Hazardous Materials Outer Packaging and Nonregulated Toxic Materials

AGENCY: Postal Service™.

ACTION: Final rule.

SUMMARY: The Postal Service is amending Publication 52, Hazardous, Restricted, and Perishable Mail (Pub 52 or Publication 52) by adding new section 131 to require specific outer packaging when mailing most hazardous materials (HAZMAT) or dangerous goods (DG), to remove quantity restrictions for nonregulated toxic materials, and to remove the telephone number requirement from the lithium battery mark.

DATES: Effective January 27, 2025. Applicable beginning January 19, 2025.

FOR FURTHER INFORMATION CONTACT: Dale Kennedy, (202) 268-6592, or Jennifer Cox, (202) 268-2108.

SUPPLEMENTARY INFORMATION: The Postal Service amends Publication 52, Hazardous, Restricted, and Perishable Mail (Pub 52 or Publication 52), with the provisions set forth herein. While not codified in title 39 of the Code of Federal Regulations (CFR), Publication 52 is a regulation of the Postal Service, and changes to it may be published in the Federal Register. 39 CFR 211.2(a)(2). Moreover, Publication 52 is incorporated by reference into Mailing Standards of the United States Postal Service, Domestic Mail Manual (DMM) section 601.8.1, which is incorporated by reference, in turn, into the Code of Federal Regulations. 39 CFR 111.1 and 111.3. Publication 52 is publicly available, in a read-only format, via the Postal Explorer® website at https://pe.usps.com. In addition, links to Postal Explorer are provided on the landing page of USPS.com, the Postal Service's primary customer-facing website, and on Postal Pro, an online informational source available to postal customers.

Summary of New Measures

The Postal Service is the sole regulatory authority for the mail but aligns with regulations within 49 CFR in some instances. Per the regulations in 49 CFR 171.1(d)(7) the Postal Service is not subject to the regulations in the Hazardous Materials Regulations (HMR). Due to the increase of eCommerce shipping over the last several years, HAZMAT/Dangerous Goods (DG) incidents have increased significantly. Historic postal data from 2020 through 2022, showed a significant increase in HAZMAT/DG incidents, which prompted the Postal Service to implement new policies requiring mailers to present HAZMAT/DG separately from non-HAZMAT/DG and to include HAZMAT Service Type Codes (STC) and Extra Service Codes (ESC) when packages contain HAZMAT/DG. These requirements, at least in part, resulted in a 20% reduction of overall HAZMAT/DG incidents in 2023.

Except as otherwise specified below, the Postal Service will require mailers shipping HAZMAT or DG to utilize rigid outer packaging that meets a minimum edge crush test requirement of at least 32 or 200 lbs. burst test strength for packages weighing 20 pounds or less and at least 44 edge crush test or 275 lbs. burst test strength for packages weighing more than 20 pounds. By implementing these requirements, the capability of packages to withstand normal processing and handling from induction to delivery point will be increased, reducing the overall potential for HAZMAT or DG incidents.

Previously, the uses of padded and poly bags as outer packaging were permitted only when the mailpiece contained button cell batteries installed in the equipment/device they operate. This change will now allow mailers to use padded or poly bags as outer packaging for shipments containing lithium batteries installed in the new or manufacturer refurbished equipment/device they operate when placed within in a secondary container (i.e., the manufacturer's box) that can withstand a 1.2-meter drop test, and only if they do not display and are not required to display HAZMAT text, marks or labels as provided in sections 349.221a6, 622.51f, and 622.52g of Publication 52.

The Postal Service will remove quantity restrictions for nonregulated liquid and solid toxic materials, for products such as pesticides, insecticides, and herbicides in section 346.232 of Publication 52, but any such items must be contained within outer packaging meeting the requirements of section 131 of Publication 52.

Lastly, the Postal Service will align with Pipeline and Hazardous Materials Safety Administration's (PHMSA) decision to remove the telephone number requirement from the lithium battery mark.¹ The Postal Service encourages mailers to switch to a mark that does not include a telephone number as soon as possible and be fully compliant by January 1, 2027.

¹ See Department of Transportation, Pipeline and Hazardous Materials Safety Administration, Hazardous Materials: Harmonization With International Standards, 89 FR 25434, 25490 (Apr. 10, 2024).

This new rule reduces complexity and provides consistency for all customers. Therefore, the Postal Service believes this rule will provide a continued reduction in incidents and enhance the safety of our employees, our networks, and our transportation partners.

Response to Comments

In response to the proposed rule (88 FR 86868, December 15, 2023), the Postal Service received six formal responses to the proposed changes.

The comments received are as follows:

Comment: One commenter requested a 60-day extension to the public comment period.

Response: The Postal Service was unable to grant this request.

Comment: One commenter indicated they didn't believe outer packaging requirements should be based on the weight of hazardous materials, but instead on the total package weight and provided alternate language for new section 131.

Response: The Postal Service agrees with the alternate language and has incorporated it within new section 131.

Comment: One commenter indicated that the last sentence of proposed section 131 was very obtuse and may be misconstrued that it is applicable to item b. The commenter suggested revisions to include a new item c. and updates to items a. and b. to incorporate the revision.

Response: The Postal Service appreciates the feedback and understands there may be room for improvement, therefore, proposed section 131 has been revised to clarify that the lithium battery related exception is not in reference to the previous item.

Comment: Two commenters supported the update to nonregulated toxic materials in section 346.232 of Publication 52 but suggested removing the reference to 49 CFR 172.101 (the Hazardous Materials Table) in the proposed Publication 52 revision.

Response: The Postal Service appreciates the supportive comment and recommendations regarding the reference to the 49 CFR hazardous materials table. Section 346.232 has been revised accordingly.

Comment: One commenter suggested that the entire package should be reviewed for strength not just the outer layer. This commenter further suggested that a lower minimum crush test requirement be considered for pieces weighing less than three ounces.

Response: The Postal Service appreciates this feedback. To prevent additional complexities to the regulations, the Postal Service is moving forward with the originally proposed outer package strength requirements. Mailers who believe their packaging configuration meets the necessary strength requirements may request consideration for use of such packaging in writing to the Postal Service's Director, Product Classification.

Comment: Two commenters believed that setting minimum strength requirements for strong outer packaging goes beyond the requirements of the HMR and far exceeds what is necessary. In doing so, the Postal Service will increase costs to its customers and will hurt sustainability efforts.

Response: The Postal Service appreciates the feedback regarding the outer packaging strength requirements. However, the Postal Service believes this change is necessary to establish clear parameters for all customers, not just those customers who are well versed and trained in hazardous material shipping requirements. In the past, customers have expressed confusion when the word, “rigid” was used for outer packaging requirements. This term is open to interpretation and, for instance, some customers believe that card stock or clay-coated paper is rigid and would be sufficient as outer packaging. By clarifying and specifying the requirements, all Postal Service customers will have a clear understanding of the requirements. Many manufacturers are already constructing packaging that meets or exceeds the new outer packaging requirements, contributing to sustainability.

Comment: Two commenters suggested the Postal Service share aggregate reports of incidents, including the type of packaging utilized, and conduct stakeholder meetings to discuss incidents to inform the public of the challenges the Postal Service is facing during normal handling of hazardous materials.

Response: Aggregate incident report data has been shared in the Summary of New Measures. However, the report does not include the type of packaging utilized. Currently, the Postal Service contacts customers regarding incidents and routinely consults with them until their packaging meets current requirements. The Postal Service appreciates the suggestion to consult with the public and will consider this in future endeavors.

Comment: One commenter indicated that while they support the removal of quantity restrictions for nonregulated toxic materials, it is inappropriate to subject these products which do not meet the classification of hazardous materials to the same standards as those that do.

Response: The Postal Service has unique challenges due to the nature of its business and implements rules to address such challenges. The purpose of requiring the same outer packaging for nonregulated toxic materials as for regulated hazardous materials is due to the significant incidents some of these products have caused during postal handling. However, these products are not being subjected to the same standards as Division 6.1 hazardous materials quantity restrictions, secondary packaging, leakproof or cushioning requirements that these products were subject to prior to this rule.

Comment: Two commenters requested that if the Postal Service were to move forward with the proposed amendments, it should allow a minimum of one year before the changes go into effect in order to educate the downstream distribution channels on finalized requirements.

Response: The Postal Service appreciates this feedback. With more than 500,000 employees and more than 31,000 facilities nationwide, the Postal Service understands and shares the same challenges related to educational efforts. However, the Postal Service cannot delay implementation.

Comment: Two commenters indicated that setting minimum burst strength or edge crust test requirements by weight will introduce complexity in the supply chain and ultimately lead to confusion and noncompliance.

Response: As indicated in a previous response, the Postal Service believes setting these clear, simplistic parameters will reduce complexity and in fact provides clarity as the previous use of “rigid” requirements proved to be an area of confusion that was left open for interpretation.

Comment: One commenter indicated that requiring minimum burst test or edge crush test exceeds HMR and air requirements for limited quantities. Air requirements for limited quantities are more stringent and require limited quantities to be capable of a 1.2-meter drop test and 24 hours stack test. Limited quantity packages are limited to 30kgs/66lbs. gross weight by all modes of transport. The necessity to require minimum burst or edge crush test requirements is not evident and the proposal provides no justification.

Response: Although the Postal Service largely only accepts hazardous materials that are classified as limited quantities, there are other mailable hazardous materials that do not qualify as limited quantities. Allowing limited quantities to be exempt from the outer packaging requirement would create more complexity than the more simplistic approach taken as each material would have specific requirements.

Comment: One commenter indicated that large manufacturers and distributors will be unable to comply with the requirement to have different burst or edge crush tests. This is because many hazardous materials entering postal networks are part of a multimodal distribution model which must be prepared in accordance with 49 CFR, and once introduced within the postal network must comply with Pub 52.

Response: Large manufacturers and distributors should be well versed in handling complexities when they are preparing hazardous materials for transport as each mode of transport (e.g., air, rail, ground, vessel) has its own requirements. The Postal Service is self-regulated, and our regulations must be unique since most customers are not hazardous materials professionals.

Comment: One commenter indicated that UN3841, Lithium-Ion batteries contained in equipment being shipped to military destinations from a larger distribution company to a postal induction site must be marked when there are more than two packages in the consignment for this type of movement per Department of Transportation (DOT) regulations, which conflicts with Pub 52. The commenter further requested the ability to mark these packages to military destinations with the lithium battery mark.

Response: The Postal Service realizes the challenges larger distribution companies face regarding the mode of transportation when shipping lithium batteries contained in the equipment/device to military destinations. As indicated previously, the Postal Service is self-regulated. Military mail sent overseas receives the benefit of domestic mail pricing through associated products, however the contents are required to adhere to international rules. As an example, domestically the lithium battery mark is permitted for eligible items containing lithium batteries, whereas internationally the use of a lithium battery mark is prohibited. Therefore, these packages must not display the lithium battery mark, or they will be rejected.

Comment: One commenter stated that allowing the use of padded or poly bags as outer packaging for lithium batteries contained in equipment is not viable because it would cover the necessary lithium battery mark in accordance with 49 CFR and would be considered an overpack according to 49 CFR.

Response: The commenter may misunderstand the intent of the padded or poly bag outer packaging. The allowance for the padded or poly bag as outer packaging in the proposed rule specifically stated “. . . the Postal Service proposes to allow mailers to use padded or poly bags as outer packaging for shipments containing lithium batteries installed in the equipment, they operate that are not required to display and do not display hazardous text, marks or labels . . . .” The purpose of this allowance is specifically for international mail, including our deployed military personnel, as manufacturer boxes often provide a detailed description of the contents and that there are batteries within the package. The policy for mailing lithium batteries to these destinations states there cannot be any marks or labels indicating the contents are lithium batteries. Often, such manufacturer boxes are intercepted at our international service centers and returned to the mailer.

Comment: One commenter indicated that proposing a more rigid standard than required by 49 CFR for road or rail transport or as required by the International Air Transport Association (IATA) would further the inconsistency between the HMR and Pub 52. They further indicated that training employees to comply with different requirements and determine the transport mode for products is unrealistic and cost prohibitive and would render the Postal Service impractical in the distribution chain.

Response: With more than 500,000 employees and more than 31,000 facilities nationwide, the Postal Service understands and shares the challenges that training employees brings to an organization. The broad Postal Service customer base requires the Postal Service to accommodate everyone regardless of their level of HAZMAT/DG understanding. The outer packaging change is necessary to provide clarity about HAZMAT packaging requirements, which ultimately increases the level of safety for everyone.

Comment: One commenter stated that packaging and marking/labeling of products classified as hazardous materials are determined at the time of packaging and preparation for retail sales and at that point shippers do not know the destination address or movement type for these products. An application of multiple different packaging requirements is impossible and there is simply no way to comply with multiple standards and requirements for the same product based upon the final distribution method. This commenter urges the Postal Service to consider the impact to the industry in adopting these requirements and apply a more wholistic approach to further harmonize with the HMR. The commenter estimated annual training cost of $6,480,000 per year to comply with these various requirements.

Response: As previously stated, the Postal Service understands and shares the same challenges related to training employees within large organizations. The broad Postal Service customer base requires it to accommodate everyone regardless of their level of HAZMAT/DG understanding.

Comment: One commenter opposed allowing the use of poly or padded mailers as outer packaging for lithium batteries contained in equipment due to the challenge of training employees to differentiate between overpacks and covering items with poly mailers without identifying them as hazardous materials. Since the Postal Service doesn't recognize overpacks, employees trained in the HMR would have confusion with applying requirements for overpacks when transported under the HMR versus within postal networks under Pub 52.

Response: The poly/padded mailer exception is not intended for use on packages that must display a lithium battery mark or label. Doing so would be considered purposely not declaring these items as hazardous material and could lead to civil penalties.

Comment: One commenter questioned the Postal Service's decision to include the drop test height of 1.7 meters. Hazardous materials mailed under Pub 52 can only be mailed in limited quantities and the HMR does not require testing on packages for limited quantities, it requires strong outer packaging. For air transport, section 2.7.6.1 of IATA's Dangerous Goods Regulations requires a limited quantity packaging to be capable of withstanding a 1.2-meter drop test. In 49 CFR 173.185(c)(2), the drop test is not applicable to lithium batteries contained in equipment and states that they must be packaged in strong, rigid outer packaging “unless the cell or battery is afforded equivalent protection by the equipment in which it is contained.”

Response: The Postal Service originally included the 1.7-meter drop test height requirement due to the highly mechanized environment within the postal network. After careful consideration of the comments and continuing efforts to protect our air transportation networks, the Postal Service has decided to change the drop test requirement to 1.2-meters.

Comment: One commenter stated that setting minimum burst test or ECT requirements for outer packaging may appear to be a simple solution to ensure safe transport of HAZMAT but setting the minimum at 200 lb. burst test or 32-edge crust test for packages weighing 20 pounds or less and 275 lb. burst test or 44-edge crust test for packages weighing more than 20 pounds far exceeds what is necessary. These proposed minimum requirements will increase costs to Postal Service customers looking to transport good and impact sustainability efforts for companies trying to minimize the use of packaging materials.

Response: As previously indicated, the increase in eCommerce shipping has led to increased HAZMAT/DG shipping, which led to increased HAZMAT/DG incidents in the mail. The Postal Service is not a manufacturer of shipping/packaging containers or in the business of testing them. It is our hope that our customers would appreciate our commitment to safety and understand our reasons for taking a more simplistic approach to the outer packaging requirements for HAZMAT/DG. Lastly, the Postal Service is committed to sustainability, the requirement is for the strength of the box. There are no prohibitions against mailers using sustainable outer packaging if it meets the applicable strength requirements.

Comment: One commenter believes the packaging proposed in this new section can be readily met by those who ship hazardous materials through the Postal Service's network, and that the required packaging is available from packaging suppliers and would help ensure the safety of these hazardous materials.

Response: The Postal Service appreciates the support and agrees the packaging proposed will increase the level of safety for handling and transporting hazardous materials packages and it is easy to obtain.

Comment: One commenter indicated that Pub 52, section 349.221(a)(5)(c), requires the inclusion of a telephone number and indicated that the United Nations Committee of Experts on the Transport of Dangerous Goods and on the Globally Harmonized System of Classification and Labeling of Chemicals adopted changes to the UN Model Regulations that removes the telephone number requirement as part of the lithium battery mark. The commenter recommended that the Postal Service also remove the telephone number requirement for the lithium battery mark from its regulations to maintain harmonization with both international and domestic regulations.

Response: The Postal Service appreciates this input and is making the necessary changes within Pub 52 to align with this global change by removing the telephone number requirement from the lithium battery marking.

Kevin Rayburn,
Attorney, Ethics & Legal Compliance.

The Postal Service adopts the following changes to Publication 52, Hazardous, Restricted, and Perishable Mail, incorporated by reference into Mailing Standards of the United States Postal Service, Domestic Mail Manual (DMM) section 601.8.1, which is further incorporated by reference in the Code of Federal Regulations. 39 CFR 111.1 and 111.3. Publication 52 is also a regulation of the Postal Service, changes to which may be published in the Federal Register. 39 CFR 211.2(a). Accordingly, for the reasons stated in the preamble, the Postal Service amends Publication 52 as follows:

Publication 52, Hazardous, Restricted and Perishable Mail

1 Introduction

13 Additional Information

[Add new section 131 to read as follows:]

131 Hazardous Materials Outer Packaging

Except as otherwise specified, rigid outer packaging must be used for shipments containing hazardous materials. Outer packaging, as defined in Appendix D, is the outer most enclosure that holds the primary receptacle, and if applicable, secondary container/packaging, absorbent and/or cushioning material.

When shipping hazardous materials, the following outer packaging is required:

(a) Mailpieces containing hazardous materials weighing 20 pounds or less (except for item c.), must use outer packaging rated at 200 lb. burst test or 32-edge crush test strength or equivalent, at minimum.

(b) Mailpieces containing hazardous materials weighing more than 20 pounds (except for item c.), must use outer packaging rated at 275 lb. burst test or 44-edge crush test strength or equivalent, at minimum.

(c) Lithium batteries installed in the equipment/device they operate that are permitted to be mailed under sections 349 and 622 may utilize padded or poly bags as outer packaging, provided they are within a secondary container (i.e., original manufacturer's box) that can withstand a 1.2-meter drop test before being placed inside the padded or poly bag. These items must meet the following requirements:

1. The equipment/device must be new, or manufacturer refurbished.

2. The lithium batteries are afforded adequate protection by the equipment/device.

3. The outer packaging does not display, and is not required to display hazardous text, markings or labels as permitted in 349.221a6, 622.51f and 622.52g.

Note: USPS-Produced packaging must not be utilized for shipping mailable hazardous materials. See DMM 601.6.1.

* * * * *

3 Hazardous Materials

* * * * *

32 General

* * * * *

325.3 Mailable Warning Labels

[Replace lithium battery mark with the following image in Exhibit 325.3a]

* * * * *

34 Mailability by Hazard Class

* * * * *

346 Toxic Substances and Infectious Substances (Hazard Class 6)

* * * * *

346.232 Other Nonregulated Toxic Materials

[Revise paragraph to read as follows:]

Liquids and solids such as pesticides, insecticides, herbicides, and irritating material (346.11e), that do not meet the classification criteria of a hazardous material under 49 CFR 172.101 with an oral LD50 value greater than 300 mg/kg are mailable but must be packaged in rigid outer packaging (see 131) and be able to withstand normal transit and handling. Liquids must also follow the conditions provided in 451.3a.

* * * * *

349 Miscellaneous Hazardous Materials (Hazard Class 9)

* * * * *

[Insert new 349.221 to read as follows:]

349.221 Lithium Batteries

a. General. The following applies to the mailability of all lithium batteries:

1. Each cell or battery must meet the requirements of each test in the UN Manual of Tests and Criteria, part III, and subsection 38.3 as referenced in 49 CFR 171.7.

2. Lithium battery outer packaging must be rigid (see 131), sealed and of adequate size.

3. The use of padded or poly bags as outer packaging is permitted only when:

a. Mailpieces contain lithium batteries properly installed in the equipment/device they intend to operate.

b. The equipment/device must be new or manufacturer refurbished.

c. The batteries are afforded adequate protection by the equipment/device, and

d. The secondary container (e.g., original manufacturer box), containing the equipment or device prevents damage and accidental activation, can retain the device without puncture of the packaging under normal conditions of transport and can withstand a 1.2-meter drop test. Button cell batteries, meeting the classification criteria in 349.11d, installed in the device they operate are not required to be within a secondary container that can withstand a 1.2-meter drop test prior to utilizing a padded or poly bag as outer packaging.

e. The outer package containing batteries does not display, and is not required to display hazardous materials text, marks, or labels.

4. All outer packages must have a complete delivery and return address.

5. Lithium battery marks are required on mailpieces containing 5 to 8 lithium cells installed in the equipment/device they operate.

a. The marks must be applied to the address side without being folded or applied in such a manner that parts of the mark appear on different sides of the mailpiece. See 325.1.

b. The mark must be a DOT-approved lithium battery mark, as specified in 49 CFR 173.183(c)(3)(i) and Exhibit 325.2a.

c. Lithium metal cells or batteries must be marked with UN3090.

d. Lithium metal cells or batteries installed in or packed with the equipment/device they intend to operate must indicate UN3091.

e. Lithium-ion cells or batteries must be marked UN3480.

f. Lithium-ion cells or batteries installed in or packed with the equipment/device they intend to operate must indicate UN3481.

6. Lithium battery marks are not required on packages:

a. Containing only lithium button cell batteries installed in the equipment/device they operate; or

b. Containing no more than 4 lithium cells or 2 lithium batteries installed in the equipment/device they operate.

7. All used, damaged, or defective electronic devices with lithium cells or batteries contained in or packed with device (excluding electronic devices that are new in original packaging, and manufacturer-certified new or refurbished devices) must be marked with the text “Restricted Electronic Device” and “Surface Transportation Only” on the address side of the mailpiece.

* * * * *

[Renumber existing section 349.221 to 349.222]

349.222 Lithium Metal (Nonrechargeable) Cells and Batteries—Domestic

[Revise item a. as follows:]

a. General. The following restrictions apply to the mailability of all lithium metal (or lithium alloy) cells and batteries:

1. Each cell must contain no more than 1.0 gram (g) of lithium content per cell.

2. Each battery must contain no more than 2.0 g aggregate lithium content per battery.

* * * * *

[Renumber existing section 349.222 to 349.223]

349.223 Lithium-Ion (Rechargeable) Cells and Batteries—Domestic

[Revise item a. as follows:]

a. General. The following additional restrictions apply to the mailability of all secondary lithium-ion or lithium polymer cells and batteries:

1. The watt-hour rating must not exceed 20 Wh per cell.

2. The watt-hour rating must not exceed 100 Wh per battery.

3. Each battery must bear the “Watt-hour” or “Wh” marking on the battery to determine if it is within the limits defined in items 1 and 2.

* * * * *

62 Hazardous Materials: International Mail

621 General Requirements

* * * * *

[Insert new section 621.2 and renumber existing 621.2 through 621.4 as 621.3 through 621.5]

621.2 Outer Packaging Requirements

Except as otherwise specified, rigid outer packaging must be used for shipments containing dangerous goods following the instructions in 131.

* * * * *

Appendix C

USPS Packaging Instruction 9D

[Revise third bullet in the Required Packaging section to read as follows:]

Required Packaging

Lithium Metal and Lithium-Ion Batteries

Lithium batteries permitted to be mailed under section 349, that are installed in the device they operate, are afforded adequate protection by that equipment/device, and do not display hazardous text, markings or labels as permitted in 349.221a6, 622.51f and 622.52g may utilize padded and poly bags as outer packaging provided the device is within a secondary container (i.e., original manufacturer's box) that can withstand a 1.2-meter drop test. Button cell batteries, meeting the classification criteria in 349.11d, installed in the device they operate are not required to be within a secondary container that can withstand a 1.2-meter drop test prior to utilizing a padded or poly bag as outer packaging.

* * * * *

Markings

[Delete item 4., renumber existing number 5 to number 4 in section:]

Lithium metal batteries properly installed in the equipment they are intended to operate: * * *

[Delete item 3. And renumber item 4. To 3. In section:]

Lithium metal batteries packed with the equipment/device they are intended to operate: * * *

[Delete item 3. And renumber item 4. To 3. In section:]

Lithium metal batteries not packed with or installed in equipment/device (individual batteries: * * *

[Delete item 3. And renumber item 4. To 3. In section:]

Lithium-ion batteries properly installed in the equipment/device they are intended to operate: * * *

[Delete item 4. And renumber item 5. To 4. In section:]

Lithium-ion batteries packed with the equipment/device they are intended to operate: * * *

[Delete item 3. And renumber item 4. To 3. In section:]

Lithium-ion batteries not packed with or installed in equipment/device (individual batteries: * * *

* * * * *

USPS Packaging Instruction 9E

[Insert new second bullet in the Required Packaging section to read as follows:]

Required Packaging

Lithium Metal and Lithium-Ion Batteries

Lithium batteries installed in the device they operate, that are permitted to be mailed under section 622.5, may utilize padded and poly bags as outer packaging provided the device is within a secondary container (i.e., original manufacturer's box) that can withstand a 1.2-meter drop test. Button cell batteries, meeting the classification criteria in 349.11d, installed in the device they operate are not required to be within a secondary container that can withstand a 1.2-meter drop test prior to utilizing a padded or poly bag as outer packaging.

* * * * *

Appendix D

Hazardous Materials Definitions

* * * * *

[Revise definition of Rigid to read as follows:]

Rigid means unable to bend or be forced out of shape; not flexible. Rigid outer packaging is generally interpreted to mean a fiberboard (cardboard) box or outer packaging of equivalent strength, durability, and rigidity. See 131.

* * * * *

[FR Doc. 2025-01618 Filed 1-24-25; 8:45 am]

BILLING CODE 7710-12-P